DEPARTMENT OF TRANSPORTATION

Federal Aviation Administration

Notice of Availability of Draft Environmental Impact Statement (DEIS) Containing a Notice of Public Comment Period and Schedule for a Public Information Workshop and Public Hearing for Proposed New Air Carrier Runway 9R/27L and Associated Developments at Palm Beach International Airport (PBIA)

AGENCY: Federal Aviation Administration (FAA), Department of Transportation (DOT).

ACTION: Notice of availability, notice of comment period, notice of Public Information Workshop and Public Hearing.

SUMMARY: The Federal Aviation Administration (FAA) is issuing this notice to advise the public that a Draft Environmental Impact Statement (DEIS) for the Proposed New Runway and Associated Development at Palm Beach International Airport, has been prepared and is available for public review and comment. Your written comments on the DEIS and related documents can be sent to the individual listed in the section FOR FURTHER INFORMATION CONTACT. A Public Information Workshop and Public Hearing will be held on November 12, 2008. The public comment period will commence on September 26, 2008 and will close on November 24, 2008.

Public Comment and Information Workshop/Public Hearing: The start of the public comment period on the DEIS and associated studies will start on September 26, 2008 and will close on November 24, 2008. A Public Information Workshop and Public Hearing will be held on November 12, 2008 in West Palm Beach. The purpose of the Public Information Workshop and Public Hearing and the public comment period is to comply with NEPA requirements to provide public disclosure and involvement concerning the scope and content of the DEIS, and to afford the public and other interested parties the opportunity to comment on the economic, social, and environmental effects of the proposed project and its consistency with the objectives of any planning that the community has carried out. The Public Information Workshop will begin at 4 p.m. (EST) and will end at 7 p.m. (EST). The Public Hearing will begin at 6 p.m. (EST) and run concurrently with the Public Information Workshop. The Public Information Workshop/Public Hearing will be held at the Palm Beach County Convention Center, Second Floor, 650 Okeechobee Boulevard, West Palm Beach, FL 33401.

You can review copies of the DEIS and related documents may be viewed during regular business hours at the following locations:

1. PBC Library Main Branch, 3650 Summit Boulevard, West Palm Beach, FL 33406.

2. PBC Library Greenacres Branch, 3750 Jog Road, Greenacres, FL 33467.

3. PBC Library Okeechobee Boulevard Branch, 5689 West Okeechobee Boulevard, West Palm Beach, FL 33417.

4. WPB Public Library, 100 Clematis Street, West Palm Beach, FL 33401.

Copies of the DEIS and related documents will also be available for review by appointment only at the following FAA and Palm Beach County Department of Airports offices: Federal Aviation Administration, Orlando Airports District Office, 5950 Hazeltine National Drive, Citadel International Building, Suite 400, Orlando, FL, (407) 812-6331; Palm Beach International Airport, Palm Beach County Department of Airports Office, 846 Palm Beach International Airport, West Palm Beach, FL, (561) 471-7412. Please schedule an appointment to review the DEIS in advance. A copy of the DEIS will also be available September 26, 2008 on the project Web site at http://www.pbia-eis.com.

FOR FURTHER INFORMATION CONTACT: Lindy McDowell, Environmental Specialist, Federal Aviation Administration, Orlando Airports District Office, 5950 Hazeltine National Drive, Citadel International Building, Suite 400, Orlando, FL. You can contact Ms. McDowell at (407) 812-6331.

SUPPLEMENTARY INFORMATION: The Federal Aviation Administration (FAA) is issuing this Notice of Availability to advise the public that a DEIS will be available for public review beginning September 26, 2008. The DEIS details the proposed development of a new air carrier runway, modification of existing runways and taxiways, relocation of general aviation support facilities, installation of navigational aids (NAVAIDS), implementation of Global Positioning System (GPS) approaches, relocation of a Very-High Frequency Omni-directional Radio Range (VOR) antenna, land acquisition, drainage canal relocation, and other connected actions at Palm Beach International Airport (PBIA), West Palm Beach, Florida.

The DEIS presents the purpose and need for the proposed project, a comprehensive analysis of the alternatives to the proposed project, including the No-Action alternative and potential environmental impacts associated with the proposed development of the new air carrier runway and related improvements at PBIA.

The FAA encourages the public to comment on the scope and content of the DEIS. Comments should be as specific as possible and address the analysis of potential environmental impacts and the adequacy of the proposed action or merits of alternatives and the proposed mitigation. Reviewers should organize their comments so they are meaningful and make the FAA aware of the viewer's interests and concerns using quotations and other specific references to the text of the DEIS and related documents. Specific comments not given during the DEIS comment period may not be considered if they are raised later in the decision making process. This commenting procedure is intended to ensure that substantive comments and concerns are made available to the FAA in a timely manner so that the FAA has an opportunity to address them.

We encourage the public to comment on the DEIS and related documents. You can submit your comments verbally or in writing at the Public Information Workshop and/or Public Hearing or you can also submit your comments in writing to the FAA at the address listed in the section entitled FOR FURTHER INFORMATION CONTACT. The comment period will close on November 24, 2008.

In addition to the Public Information Workshop and Public Hearing being conducted to provide public involvement concerning the scope and content of the DEIS, they are also being conducted to provide public involvement and input in regard to historic resources in compliance with Section 106 of the National Historic Preservation Act of 1966—36 CFR 800.

Issued in Orlando, FL, on September 22, 2008.
W. Dean Stringer,
Manager, FAA, Orlando Airports District Office.

[FR Doc. E8-22631 Filed 9-25-08; 8:45 am]

BILLING CODE 4910-13-P